ELECTION ASSISTANCE COMMISSION

Sunshine Act Notice

AGENCY: U.S. Election Assistance Commission.

ACTION: Notice of Virtual Public Forum for EAC Standards Board.

Date and Time: Monday, May 17, 2010, 9 a.m. EDT through Tuesday, June 1, 2010, 9 p.m. EDT.

Place: EAC Standards Board Virtual Meeting Room at http://www.eac.gov. Once at the main page of EAC's Web site, viewers should click the link to the Standards Board Virtual Meeting Room. The virtual meeting room will open on Monday, May 17, 2010, at 9 a.m. EDT and will close on Tuesday, June 1, 2010, at 9 p.m. EDT. The site will be available 24 hours per day during that 16-day period.

Purpose: The EAC Standards Board will review and provide comment on three draft chapters of the Election Management Guidelines. The draft chapters contain best practices and recommendations regarding: Accessibility, Elections Office Administration, and Technology in Elections.

The EAC Standards Board Virtual Meeting Room was established to enable the Standards Board to conduct business in an efficient manner in a public forum, including being able to review and discuss draft documents, when it is not feasible for an in-person board meeting. The Standards Board will not take any votes or propose any resolutions during the 16-day forum of May 17-June 1, 2010. Members will post comments about the three draft chapters of the Election Management Guidelines.

This activity is open to the public. The public may view the proceedings of this special forum by visiting the EAC Standards Board Virtual Meeting Room at http://www.eac.gov at any time between Monday, May 17, 2010, 9 a.m. EDT and Tuesday, June 1, 2010, 9 p.m. EDT. The public also may view the three draft chapters of the election management guidelines, which will be posted on EAC's Web site beginning May 17, 2010. The public may file written statements to the EAC Standards Board at standardsboard@eac.gov and by copying Sharmili Edwards at sedwards@eac.gov. Data on EAC'S Web site is accessible to visitors with disabilities and meets the requirements of section 508 of the Rehabilitation Act.

Person to Contact for Information: Bryan Whitener, Telephone: (202) 566-3100.

Gineen Bresso Beach,
Commissioner, U.S. Election Assistance Commission.

[FR Doc. 2010-10208 Filed 4-28-10; 11:15 am]

BILLING CODE 6820-KF-P